DEPARTMENT OF STATE

[Delegation of Authority No. 559]

Re-Delegation of the Functions and Authorities Pertaining to the United States National Authority

ACTION: Delegation of authority.

SUMMARY: The State Department is publishing a Delegation of Authority signed by Under Secretary of State for Arms Control and International Security on June 25, 2024.

SUPPLEMENTARY INFORMATION: Bonnie Jenkins, Under Secretary of State for Arms Control and International Security, signed the following “Redelegation of Authority to the Assistant Secretary, Bureau of Arms Control, Deterrence, and Stability, the Principal Deputy Assistant Secretary, Bureau of Arms Control, Deterrence, and Stability, and the Director, Office of Chemical and Biological Weapons Affairs, Bureau of Arms Control, Deterrence, and Stability” on June 25, 2024. The State Department maintains the original document.

(Begin text.)

By virtue of the authority vested in the Secretary of State by the laws of the United States, including by section 101 of the Chemical Weapons Convention Implementation Act of 1998, Division I of Public Law 105-277, codified at 22 U.S.C. 6711(c), and delegated by section 2(a)(12) of Delegation of Authority 293-2, dated October 23, 2011, I hereby re-delegate to the Assistant Secretary, Bureau of Arms Control, Deterrence, and Stability, the Principal Deputy Assistant Secretary, Bureau of Arms Control, Deterrence, and Stability, and the Director, Office of Chemical and Biological Weapons Affairs, Bureau of Arms Control, Deterrence, and Stability, to the extent authorized by law, the authorities and functions pertaining to the Director of the United States National Authority.

A reference in this delegation of authority to a statute or delegation of authority shall be deemed to be a reference to such statute or delegation of authority as amended from time to time.

The Secretary of State, the Deputy Secretary, the Deputy Secretary for Management and Resources, and the Under Secretary for Arms Control and International Security may at any time exercise any function delegated by this delegation of authority. Delegation of Authority 333, dated September 24, 2010, is hereby rescinded.

This delegation of authority shall be published in the Federal Register.

(End text.)

Kevin E. Bryant,
Deputy Director, Office of Directives Management, Department of State.

[FR Doc. 2024-15254 Filed 7-10-24; 8:45 am]

BILLING CODE 4710-27-P